DEPARTMENT OF JUSTICE

Notice of Lodging of the Consent Decree Pursuant to the Clean Water Act

Under 28 CFR 50.7, notice is hereby given that on July 13, 2000, a proposed Consent Decree in United States v. Harris County Municipal Utility District No. 50 (“Defendant”), Civil Action No. H-00-1931, was lodged with the United States District Court for the Southern District of Texas, Houston Division.

In this action the United States, on behalf of the United States Environmental Protection Agency (“EPA”), and the State of Texas, sought injunctive relief and civil penalties arising from the operation of a publicly owned sewage treatment works located in Barrett Station, Harris County, Texas. Pursuant to the proposed Consent Decree, the Defendant will take measures to properly operate and maintain the collection system, identify problems that lead to noncompliance within the collection system and facility, and undertake the necessary capital improvements to eliminate unauthorized discharges. The proposed Consent Decree also requires the Defendant to pay $10,000. The proposed Consent Decree resolves the Defendant's liability under Section 309 of the Clean Water Act, 33 U.S.C. 1319 and Texas Water Code § 7.105.

The Department of Justice will receive, for a period of thirty (30) days from the date of this publication, comments relating to the Consent Decree. Comments should be addressed to the Assistant Attorney General for the Environment and Natural Resources Division, U.S. Department of Justice, P.O. Box 7611, N.W., Washington, D.C. 20044-7611, and should refer to United States v. Harris County Municipal Utility District No. 50, D.J. Ref. 90-5-1-1-4505. The Consent Decree may be examined at U.S. EPA Region 6, 1445 Ross Avenue, Suite 1200, Dallas, Texas. A copy of the Consent Decree may also be obtained by mail from the Consent Decree Library, P.O. Box 7611, U.S. Department of Justice, Washington, D.C. 30044-7611. In requesting a copy, please enclose a check in the amount of $7.75 payable to the Consent Decree Library.

Joel M. Gross,
Chief, Environmental Enforcement Section, Environment and Natural Resources Division.

[FR Doc. 00-19385 Filed 7-31-00; 8:45 am]

BILLING CODE 4410-15-M